ENVIRONMENTAL PROTECTION AGENCY

[FRL 9921-01-OA]

Request for Nominations for a Science Advisory Board Panel on BenMAP and Benefits Methods

AGENCY: Environmental Protection Agency (EPA).

ACTION: Notice.

SUMMARY: The Environmental Protection Agency (EPA) Science Advisory Board (SAB) Staff Office is expanding its request for nominations previously announced on April 5, 2022. The EPA SAB Staff Office previously requested nominations of scientific experts to form a panel to review EPA's new cloud-based Environmental Benefits and Mapping (BenMAP) tool, an open-source computer program that calculates estimated air pollution-related deaths and illnesses and their associated economic values. In that notice, the SAB Staff Office indicated its intention to announce a separate panel that would address the approach EPA takes for selecting and applying evidence in its PM2.5 and Ozone (O3) benefits assessments. Because the two panels would require substantially similar expertise, the SAB Staff Office has now determined that it is appropriate to combine them into a single panel with a more comprehensive charge. The Science Advisory Board Staff Office is soliciting additional candidates to complement those nominated for the review of BenMAP.

DATES: Nominations should be submitted by June 27, 2002 per the instructions below.

FOR FURTHER INFORMATION CONTACT: Any member of the public wishing further information regarding this Notice and request for nominations may contact Dr. Bryan Bloomer, Designated Federal Officer (DFO), EPA Science Advisory Board via telephone/voice mail (202) 564-4222, or email at bloomer.bryan@epa.gov. General information concerning the EPA SAB can be found at https://sab.epa.gov. For information concerning EPA's technical support document, please contact Mr. Neal Fann via telephone/voice mail at (919) 541-0209 or email at fann.neal@epa.gov.

SUPPLEMENTARY INFORMATION:

Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S.C. App. 2) and related regulations. The SAB Staff Office is forming an expert panel, the SAB BenMAP and Benefits Methods Panel, under the auspices of the Chartered SAB. The BenMAP and Benefits Methods Panel will provide advice through the chartered SAB. The SAB will comply with the provisions of FACA and all appropriate SAB Staff Office procedural policies.

The SAB BenMAP and Benefits Methods Panel will conduct the review of EPA's BenMAP tool as described previously in 87 FR 19680-19681. BenMAP is an open-source computer program that calculates the number and economic value of air pollution-related deaths and illnesses. In addition, the SAB BenMAP and Benefits Methods Panel will review EPA's technical support document Estimating PM2.5- and Ozone-Attributable Health Benefits as requested by the EPA's Office of Air and Radiation. Collectively, the SAB BenMAP and Benefits Methods Panel will review both EPA's approach for selecting and applying the evidence used to quantify and monetize air pollution-related effects and how the BenMAP tool performs these calculations. With today's notice, the SAB Staff Office is expanding its solicitation of April 5, 2022 (87 FR 19680-19681) so that a broader panel, the BenMAP and Benefits Methods Panel, can also review EPA's selection of human health endpoints, risk estimates and monetized values in an air pollution benefits assessment, as well as the agency's characterization of uncertainty inherent in EPA benefits assessments. These additional topics will be in combination with the panel's review of the BenMAP tool.

Request for Nominations: The SAB Staff Office is seeking nominations of nationally and internationally recognized scientists with demonstrated expertise in the following disciplines: air pollution epidemiology; biostatistics; risk assessment; demographics; public health data science; uncertainty analysis; and environmental economics, particularly, the valuation of benefits from pollution reductions. The SAB Staff Office is seeking nominees from the listed disciplines above, with expertise that emphasizes the health effects of air pollution and the development of economic values for reductions in air pollution.

Process and Deadline for Submitting Nominations: Any interested person or organization may nominate qualified individuals in the areas of expertise described above for possible service on the SAB panel. Individuals may self-nominate. Nominations should be submitted in electronic format (preferred) using the online nomination form on the SAB website at https://sab.epa.gov (see the “Public Input on Membership” list under “Committees, Panels, and Membership” following the instructions for “Nominating Experts to Advisory Panels and Ad Hoc Committees Being Formed,” provided on the SAB website (see the “Nomination of Experts” link under “Current Activities” at https://sab.epa.gov). To be considered, nominations should include the information requested below. EPA values and welcomes diversity. All qualified candidates are encouraged to apply regardless of sex, race, disability, or ethnicity. Nominations should be submitted in time to arrive no later than June 27, 2022.

The following information should be provided on the nomination form: contact information for the person making the nomination; contact information for the nominee; and the disciplinary and specific areas of expertise of the nominee. Nominees will be contacted by the SAB Staff Office and will be asked to provide a recent curriculum vitae and a narrative biographical summary that include the following: current position, educational background; research activities; sources of research funding for the last two years; and recent service on other national advisory committees or national professional organizations. Persons having questions about the nomination procedures, or who are unable to submit nominations through the SAB website, should contact the DFO at the contact information noted above. The names and biosketches of qualified nominees identified by respondents to this Federal Register Notice, and additional experts identified by the SAB Staff Office, will be posted in a List of Candidates for the panel on the SAB website at https://sab.epa.gov. Public comments on the List of Candidates will be accepted for 21 days. The public will be requested to provide relevant information or other documentation on nominees that the SAB Staff Office should consider in evaluating candidates.

For the EPA SAB Staff Office, a balanced review panel includes candidates who possess the necessary domains of knowledge, the relevant scientific perspectives (which, among other factors, can be influenced by work history and affiliation), and the collective breadth of experience to adequately address the charge. In forming the expert panel, the SAB Staff Office will consider public comments on the Lists of Candidates, information provided by the candidates themselves, and background information independently gathered by the SAB Staff Office. Selection criteria to be used for panel membership include: (a) scientific and/or technical expertise, knowledge, and experience (primary factors); (b) availability and willingness to serve; (c) absence of financial conflicts of interest; (d) absence of an appearance of a loss of impartiality; (e) skills working in committees, subcommittees and advisory panels; and (f) for the panel as a whole, diversity of expertise and scientific points of view.

The SAB Staff Office's evaluation of an absence of financial conflicts of interest will include a review of the “Confidential Financial Disclosure Form for Environmental Protection Agency Special Government Employees” (EPA Form 3110-48). This confidential form is required and allows government officials to determine whether there is a statutory conflict between a person's public responsibilities (which include membership on an EPA federal advisory committee) and private interests and activities, or the appearance of a loss of impartiality, as defined by federal regulation. The form may be viewed and downloaded through the “Ethics Requirements for Advisors” link on the SAB website at https://sab.epa.gov. This form should not be submitted as part of a nomination.

The approved policy under which the EPA SAB Office selects members for subcommittees and review panels is described in the following document: Overview of the Panel Formation Process at the Environmental Protection Agency Science Advisory Board (EPA-SAB-EC-02-010), which is posted on the SAB website at https://sab.epa.gov.

Thomas H. Brennan,
Director, Science Advisory Board Staff Office.

[FR Doc. 2022-12703 Filed 6-10-22; 8:45 am]

BILLING CODE 6560-50-P